DEPARTMENT OF AGRICULTURE

Forest Service

Western Washington Cascades Provincial Interagency Executive Committee (PIEC) Advisory Committee

AGENCY: Forest Service, USDA.

ACTION: Notice of meeting.

SUMMARY: The Western Washington Cascades Provincial Interagency Executive Committee Advisory Committee (Provincial Advisory Committee) will meet on Friday, October 18th, at the Darrington Ranger District Office, 1405 Emens Street, Darrington, WA 98241.

The meeting will begin at 9:30 a.m. and continue until about 12 noon. The focus will be the vegetative management program on the Forest. In addition to the Advisory Committee meeting, a field trip for Advisory Committee members will take place in the afternoon. Members will tour portions of two thinning stands on the Darrington Ranger District, commencing at 12:30 p.m. at the District Office and ending back at the same office about 4:30 p.m. The purpose of the trip is to discuss issues, opportunities, and concerns in the area of vegetative management. All Western Washington Cascades Provincial Advisory Committee meetings are open to the public. Interested citizens are encouraged to attend. Interested citizens are also welcome to join the field trip; however, they must provide their own transportation.

The Provincial Advisory Committee provides advice regarding ecosystem management for federal lands within the Western Washington Cascades Province, as well as advice and recommendations to promote better integration of forest management activities among federal and non-federal entities. The Advisory Committee is a key element of implementation of the Northwest Forest Plan.

FOR FURTHER INFORMATION CONTACT: Direct questions regarding this meeting to Penny Sundblad, Province Liaison, USDA Forest Service, Mt. Baker-Snoqualmie National Forest, 810 State Route 20, Sedro Woolley, Washington 98284 (360-856-5700, Extension 321).

Dated: September 20, 2002.
Jon Vanderheyden,
Acting Designated Federal Official.

[FR Doc. 02-24482 Filed 9-25-02; 8:45 am]

BILLING CODE 3410-11-M